ENVIRONMENTAL PROTECTION AGENCY

40 CFR Part 52

[CA-157-0222 b; FRL-6570-1]

Approval and Promulgation of State Implementation Plans; California State Implementation Plan Revision; Sacramento Metropolitan Air Quality Management District, San Diego County, San Joaquin Valley Unified, and Ventura County Air Pollution Control Districts

AGENCY: Environmental Protection Agency (EPA).

ACTION: Proposed rule.

SUMMARY: EPA is proposing revisions to the California State Implementation Plan (SIP) which concern rule rescissions from the Sacramento Metropolitan Air Quality Management District (SMAQMD), San Diego County Air Pollution Control (SDCAPCD), San Joaquin Valley Unified Air Pollution Control District and amendments to the Ventura County Air Pollution Control District (APCD).

The intended effect of this action is to update and clarify the State Implementation Plan in accordance with the requirements of the Clean Air Act, as amended in 1990 (CAA or the Act). In the Final Rules section of this Federal Register, the EPA is approving the state's SIP submittal as a direct final rule without prior proposal because the Agency views this as a noncontroversial revision and anticipates no adverse comments. A detailed rationale for this approval is set forth in the direct final rule. If no adverse comments are received, no further activity is contemplated. If EPA receives adverse comments, the direct final rule will be withdrawn and all public comments received will be addressed in a subsequent final rule based on this proposed rule. The EPA will not institute a second comment period. Any parties interested in commenting should do so at this time.

DATES: Written comments must be received by May 5, 2000.

ADDRESSES: Comments should be addressed to: Andrew Steckel, Rulemaking Office (AIR-4), Air Division, U.S. Environmental Protection Agency, Region IX, 75 Hawthorne Street, San Francisco, CA 94105-3901.

Copies of the rule revisions and EPA's evaluation report of each rule are available for public inspection at EPA's Region 9 office during normal business hours. Copies of the submitted rule revisions are also available for inspection at the following locations:

California Air Resources Board, Stationary Source Division, Rule Evaluation Section, 2020 “L” Street, Sacramento, CA 95812.

Sacramento Metropolitan Air Quality Management District, 8411 Jackson Rd., Sacramento, CA 95826

San Diego County Air Pollution Control District, 9150 Chesapeake Drive, San Diego, CA 92123-1096

San Joaquin Valley Air Pollution Control District, 1999 Tuolumne Street, Suite 200, Fresno, CA 93721

Ventura County Air Pollution Control District, 669 County Square Drive, Ventura, CA 93003

FOR FURTHER INFORMATION CONTACT: Cynthia G. Allen, (AIR-4), Air Division, U.S. Environmental Protection Agency, Region 9, 75 Hawthorne Street, San Francisco, CA 94105-3901; Telephone: (415) 744-1189.

SUPPLEMENTARY INFORMATION: This document concerns the rule revisions listed below, submitted to EPA by the California Resources Board on the dates listed for each rule.

Sacramento Metropolitan Air Quality Management District (SMAQMD)

Rule 445, Perchloroethylene Dry Cleaning, submitted 05/18/98; rescission adopted 10/03/96.

San Diego County Air Pollution Control District (SDCAPCD)

Rule 67.8, Dry Cleaning Facilities Using Halogenated Organic Solvent, submitted 07/23/99, rescission adopted 11/04/98.

San Joaquin Valley Unified Air Pollution Control District (SJVUAPCD)

Rule 4671, Perchloroethylene Dry Cleaning System, submitted 10/13/95, rescission adopted 06/15/95.

Ventura County Air Pollution Control District (VCAPCD)

Rule 74.5.2, Dry Cleaning Facilities Using Halogenated Organic Solvents, submitted 08/10/95 revision adopted 05/09/95.

For further information, please see the information provided in the direct final action that is located in the rules section of this Federal Register.

Dated: March 15, 2000.
Laura Yoshii,
Acting Regional Administrator, Region IX.

[FR Doc. 00-8150 Filed 4-4-00; 8:45 am]

BILLING CODE 6560-50-P